DEPARTMENT OF COMMERCE

National Institute of Standards and Technology

Proposed Information Collection; Comment Request; Manufacturing Extension Partnership (MEP) Program Evaluation Survey

AGENCY: National Institute of Standards and Technology (NIST), DOC.

ACTION: Notice.

SUMMARY: The Department of Commerce (DoC), as part of its continuing effort to reduce paperwork and respondent burden, invites the general public and other Federal agencies to take this opportunity to comment on proposed and/or continuing information collections, as required by the Paperwork Reduction Act of 1995, Pub. L. 104-13 (44 U.S.C. 3506 (2)(A)).

DATES: Written comments must be submitted on or before June 13, 2005.

ADDRESSES: Direct all written comments to Diana Hynek, Departmental Paperwork Clearance Officer, Department of Commerce, 1401 Constitution Avenue, NW., Room 6625, Washington, DC 20230 (or via the Internet at (dHynek@doc.gov).

FOR FURTHER INFORMATION CONTACT: Requests for additional information or copies of the information collection instrument(s) and instructions should be directed to Romain Tweedy, National Institute of Standards and Technology, Manufacturing Extension Partnership, 100 Bureau Drive, Stop 4800, Gaithersburg, MD 20899-4800, (301) 975-8824 (phone) (301) 963-6556 (fax), romain.tweedy@nist.gov (e-mail).

SUPPLEMENTARY INFORMATION:

I. Abstract

The National Institute of Standards and Technology (NIST) sponsors the Manufacturing Extension Partnership (MEP), a national network of locally based manufacturing extension centers working with small manufacturers to help them improve their productivity, improve profitability and enhance their economic competitiveness.

The specific information obtained from clients about the impact of MEP services is essential for NIST officials to evaluate program strengths and weaknesses and plan improvements in program effectiveness and efficiency. This information is not available from existing programs or other sources. The collection of information is currently conducted by Synovate, Inc. This submission under the Paperwork Reduction Act represents a request for an extension of a currently approved collection.

II. Method of Collection

Clients have three options for completing the survey, Computer Assisted Telephone Interviewing (CATI), Interactive Voice Response (IVR), or via the Internet.

III. Data

OMB Number: 0693-0021.

Form Number: None.

Type of Review: Regular submission.

Affected Public: Business or other for-profit organizations.

Estimated Number of Respondents: 6,500.

Estimated Time Per Response: 10 minutes.

Estimated Total Annual Burden Hours: 1,083.

Estimated Annual Cost to the Public: $0.

IV. Requests for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents.

Comments submitted in response to this notice will be summarized and/or included in the request for OMB approval of this information collection; they will also become a matter of public record.

Dated: April 8, 2005.
Gwellnar Banks,
Management Analyst, Office of the Chief Information Officer.

[FR Doc. 05-7473 Filed 4-13-05; 8:45 am]

BILLING CODE 3510-CN-P